DEPARTMENT OF ENERGY

Federal Energy Regulatory Commission

[Docket Nos. CP01-384-000 and CP01-387-000]

Islander East Pipeline Company, L.L.C., Algonquin Gas Transmission Company; Notice of Availability of the Draft Environmental Impact Statement for the Proposed Islander East Pipeline Project

March 29, 2002.

The staff of the Federal Energy Regulatory Commission (FERC or Commission) has prepared a Draft Environmental Impact Statement (DEIS) on the natural gas pipeline facilities proposed by Islander East Pipeline Company, L.L.C. (Islander East) and by Algonquin Gas Transmission Company (Algonquin) in the above-referenced dockets.

The DEIS was prepared to satisfy the requirements of the National Environmental Policy Act. The staff concludes that approval of the proposed project with the appropriate mitigating measures as recommended, would have limited adverse environmental impact. The DEIS also evaluates alternatives to the proposal, including system alternatives, major route alternatives, and route variations, and requests comments on them.

The DEIS addresses the potential environmental effects of the construction and operation of the following facilities in New Haven County, Connecticut and Suffolk County, New York:

• A new 12,028 horsepower Cheshire Compressor Station north of Cheshire, Connecticut in New Haven County operated by Algonquin;

• The removal of two launchers from an existing Algonquin mainline valve and interconnect facility northeast of Cheshire, Connecticut by Algonquin;

• Retest and upgrade along the C-1 and C-lL lines of about 27.4 miles of existing Algonquin mainline from Cheshire Compressor Station to North Haven, Connecticut;

• An anomaly investigation along the C-1 lines of about 0.1 mile of existing Algonquin mainline from Cheshire Compressor Station to North Haven, Connecticut;

• About 44.8 miles of new 24-inch-diameter Islander East Pipeline from the North Haven Meter Station just south of North Haven, Connecticut;

• About 5.6 miles of new 24-inch diameter pipeline (the Calverton Lateral) from the Islander East Pipeline near Wading River, New York, through the Towns of Brookhaven and Riverhead, New York to a planned power plant in Calverton, New York;

• A new meter station within the North Haven Meter Station Site, just south of North Haven, Connecticut;

• A new meter station in Brookhaven, New York and in Calverton, New York at the terminus of the Islander East Pipeline and the Calverton Lateral, respectively; and

• Five new mainline valves along the proposed pipeline route (two in Connecticut and three in New York).

The purpose of the Islander East Pipeline Project is to provide transportation service for 285,000 dekatherms per day of natural gas from supply areas in the northeast United States to energy markets in Connecticut; and Long Island and New York City, New York.

Specific Comment Request

Area residents, local or state governments, intervenors, and other interested parties are asked to provide specific comments on whether the following alternatives and variations are reasonable and practicable and environmentally preferable to the proposed facilities. Comments should also address any effect on project timing and related cost/benefits. The staff has identified and evaluated the details of the following system alternatives:

• The One-Pipe System Alternative, which combines the volumes for both the Islander East Project and the Iroquois Gas Transmission System, L.P. (Iroquois) Eastern Long Island (ELI) Extension Project (CP02-52-000), in one pipeline. This would be an alternative to building both the ELI Extension Project and the Islander East Project, using the route for the ELI Extension Project with additional modifications. This alternative would transport the total volume of gas proposed in both projects, about 435,000 Mcf per day;

• The ELI System Alternative, which could use the ELI Extension Project instead of the Islander East Project to deliver 260,000 Mcf per day, in the event that the Commission decides that there is a market for only one pipeline to serve eastern Long Island; and

• The Long Island System Alternative, which combines both Islander East and the ELI Extension projects in a joint pipeline on Long Island only.

The staff has also examined eight route alternatives and nine other route variations to the proposed facilities. The staff has recommended the use of two of the route variations to minimize impacts on Branford Land Trust property in Connecticut and Core Preservation Areas of the Central Pine Barrens in New York. See section 4 of the DEIS for details on alternatives.

Comment Procedures and Public Meeting

Any person wishing to comment on the DEIS may do so. To ensure consideration prior to a Commission decision on the proposal, it is important that we receive your comments before the date specified below. Please carefully follow these instructions to ensure that your comments are received in time and properly recorded:

• Send an original and two copies of your comments to: Magalie R. Salas, Secretary, Federal Energy Regulatory Commission, 888 First St., NE., Room 1A, Washington, DC 20426;

• Label one copy of the comments for the attention of Gas Branch 2, PJ11.2

• Reference Docket Nos. CP01-384-000 and CP01-387-000; and

• Mail your comments so that they will be received in Washington, DC on or before May 19, 2002.

Please note that we are continuing to experience delays in mail deliveries from the U.S. Postal Service. As a result, we will include all comments that we receive within a reasonable time frame in our environmental analysis of this project. However, the Commission encourages electronic filing of any comments or interventions or protests to this proceeding. See 18 CFR 385.2001(a)(1)(iii) and the instructions on the Commission's web site at http://www.ferc.gov under the “e-Filing” link and the link to the User's Guide. Before you can file comments you will need to create a free account which can be created by clicking on “Login to File” and then “New User Account.”

We will announce in a future notice, the location and time of one local public meeting in Connecticut, and one in New York, to receive comments on the DEIS.

After these comments are reviewed, any significant new issues are investigated, and modifications are made to the DEIS, a Final Environmental Impact Statement (FEIS) will be published and distributed by the staff. The FEIS will contain the staff's responses to timely comments filed on the DEIS.

Comments will be considered by the Commission but will not serve to make the commentor a party to the proceeding. Any person seeking to become a party to the proceeding must file a motion to intervene pursuant to Rule 214 of the Commission's Rules of Practice and Procedures (18 CFR 385.214).

Anyone may intervene in this proceeding based on this DEIS. You must file your request to intervene as specified above.¹ You do not need intervenor status to have your comments considered.

¹ Interventions may also be filed electronically via the Internet in lieu of paper. See the previous discussion on filing comments electronically.

The DEIS has been placed in the public files of the FERC and is available for distribution and public inspection at: Federal Energy Regulatory Commission, Public Reference and Files Maintenance Branch, 888 First Street, NE., Room 2A, Washington, DC 20426, (202) 208-1371.

A limited number of copies are available from the Public Reference and Files Maintenance Branch identified above. In addition, copies of the DEIS have been mailed to Federal, state and local agencies, public interest groups, individuals who have requested the DEIS, newspapers, and parties to this proceeding.

Additional information about the proposed project is available from the Commission's Office of External Affairs, at (202) 208-1088 or on the FERC Internet website (www.ferc.gov) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2222.

Linwood A. Watson, Jr.,
Deputy Secretary.

[FR Doc. 02-8128 Filed 4-3-02; 8:45 am]

BILLING CODE 6717-01-P